DEPARTMENT OF ENERGY

Notice of Availability of Solicitation

AGENCY: Idaho Operations Office, Department of Energy.

ACTION: Notice of availability of solicitation—steel industry research challenge.

SUMMARY: The U.S. Department of Energy (DOE), Idaho Operations Office (ID), is seeking applications for conceptual designs for steel making processes that will revolutionize the way steel is made in the 21st century. This is the next “stretch” step in advancing the future of the domestic steel industry and compliments the current program based on the Steel Technology Roadmap. Each awardee will develop a conceptual design with supporting technical, marketing, economic and policy data; describe opportunities and barriers; and develop energy, environmental and economic targets.

DATES: The deadline for receipt of applications is 3:00 p.m. MST February 28, 2001.

ADDRESSES: Applications should be submitted to: Procurement Services Division, U.S. Department of Energy, Idaho Operations Office, Attention: Elaine Richardson [DE-PS07-01ID14002], 850 Energy Drive, MS 1221, Idaho Falls, Idaho 83401-1563.

FOR FURTHER INFORMATION CONTACT: Elaine Richardson, Contract Specialist, at richarem@id.doe.gov

SUPPLEMENTARY INFORMATION: The statutory authority for this program is the Federal Non-Nuclear Energy Research and Development Act of 1974 (P.L. 93-577). DOE anticipates making approximately 1 to 4 cooperative agreement awards each with a duration of two years or less. At the end of the two-year period, a panel of judges made up of steel industry executives will determine which designs will be selected for long term cost-shared research and development investment. Approximately $500,000 in federal funds is expected to be available to fund the first year of selected design concept efforts. No cost share is required. For-profit, non-profit, state and local governments, Indian Tribes, and institutions of higher education may submit applications in response to this solicitation. Multi-partner collaborations between steel companies, equipment suppliers, engineering firms, and educational institutions are strongly encouraged; collaboration with educational institutions and their students is mandatory. National laboratories will not be eligible for an award under this solicitation. However, an application that includes performance of a portion of the work by a National Laboratory may be considered for award provided the applicant clearly identifies the unique capabilities, facilities, and/or expertise the Laboratory offers the primary applicant. The issuance date of Solicitation No. DE-PS07-01ID14002 will be on or about November 14, 2000. The solicitation will be available in full text via the Internet at the following address: http://www.id.doe.gov/doeid/psd/proc-div.html/. Technical and non-technical questions should be submitted in writing to Elaine Richardson by e-mail richarem@id.doe.gov, or facsimile at 208-526-5548 no later than January 26, 2001.

Issued in Idaho Falls on November 13, 2000.
R. Jeffrey Hoyles,
Director, Procurement Services Division.

[FR Doc. 00-30016 Filed 11-22-00; 8:45 am]

BILLING CODE 6450-01-P